COMMITTEE FOR PURCHASE FROM PEOPLE WHO ARE BLIND OR SEVERELY DISABLED

“Proposed Deletion to Procurement List” Correction

In the document appearing on page 18281, FR document 00-8682, in the issue of April 7, 2000, in the third column, the listing for Enamel, Lacquer, NSN 8010-00-935-7085 should have been 8010-00-935-7075.

Leon A. Wilson, Jr.,
Executive Director.

[FR Doc. 00-9354 Filed 4-13-00; 8:45 am]

BILLING CODE 6353-01-P